DEPARTMENT OF THE TREASURY

Office of Foreign Assets Control

Unblocking of Specially Designated Narcotics Traffickers Pursuant to Executive Order 12978

AGENCY: Office of Foreign Assets Control, Treasury.

ACTION: Notice.

SUMMARY: The Treasury Department's Office of Foreign Assets Control (“OFAC”) is publishing the names of 21 individuals and entities whose property and interests in property have been unblocked pursuant to Executive Order 12978 of October 21, 1995, Blocking Assets and Prohibiting Transactions With Significant Narcotics Traffickers.

DATES: The unblocking and removal from the list of Specially Designated Narcotics Traffickers of 21 individuals and entities identified in this notice whose property and interests in property were blocked pursuant to Executive Order 12978 of October 21, 1995, is effective on August 28, 2008.

FOR FURTHER INFORMATION CONTACT: Assistant Director, Compliance Outreach & Implementation Office of Foreign Assets Control Department of the Treasury Washington, DC 20220, tel.: 202/622-2490.

SUPPLEMENTARY INFORMATION:

Electronic and Facsimile Availability

This document and additional information concerning OFAC are available from OFAC's Web site(http://www.treas.gov/ofac) or via facsimile through a 24-hour fax-on-demand service, tel.: (202) 622-0077.

Background

On October 21, 1995, the President, invoking the authority, inter alia, of the International Emergency Economic Powers Act (50 U.S.C. 1701-1706), issued Executive Order 12978 (60 Fed. Reg. 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The persons listed in an Annex to the Order; (2) any foreign person determined by the Secretary of Treasury, in consultation with the Attorney General and Secretary of State, to play a significant role in international narcotics trafficking centered in Colombia, or to materially assist in, or provide financial or technological support for or goods or services in support of, the narcotics trafficking activities of persons designated in or pursuant to the order; and (3) persons determined by the Secretary of the Treasury, in consultation with the Attorney General and the Secretary of State, to be owned or controlled by, or to act for or on behalf of, persons designated pursuant to the Order.

On August 28, 2008, the Director of OFAC removed from the list of Specially Designated Narcotics Traffickers 21 individuals and entities listed below, whose property and interests in property were blocked pursuant to the Order.

The listing of the unblocked individuals and entities follows:

1. ARIAS ESPINOSA ARIES S.A. (a.k.a. ARIES S.A.), Calle 22D No. 34-55, Bogota, Colombia; NIT # 830012619-1 (Colombia) [SDNT].

2. ARIAS JARAMILLO, Diego De Jesus, c/o ARIAS ESPINOSA ARIES S.A., Bogota, Colombia; c/o EXCIPIENTES FARMACEUTICOS EXCIPHARMA S.A., Bogota, Colombia; c/o INVERSIONES ASE LTDA., Bogota, Colombia; Calle 7 Oeste No. 2-207, Cali, Colombia; Carrera 2A No. 7-30 203, Cali, Colombia; Carrera 18 No. 137-43, Bogota, Colombia; Carrera 41 No. 125A-52 Int. 5 ap. 402, Bogota, Colombia; Cedula No. 19241807 (Colombia) (individual) [SDNT].

3. ECHEVERRY TRUJILLO, Martha Lucia, c/o REVISTA DEL AMERICA LTDA., Cali, Colombia; c/o CORPORACION DEPORTIVA AMERICA, Cali, Colombia; c/o M.O.C. ECHEVERRY HERMANOS LTDA., Cali, Colombia; c/o M C M Y CIA. LTDA., Cali, Colombia; DOB 8 Sep 1956; Cedula No. 31151067 (Colombia) (individual) [SDNT].

4. ESPINOSA DE ARIAS, Gladys, c/o ARIAS ESPINOSA ARIES S.A., Bogota, Colombia; c/o EXCIPIENTES FARMACEUTICOS EXCIPHARMA S.A., Bogota, Colombia; c/o INVERSIONES ASE LTDA., Bogota, Colombia; Cedula No. 41683460 (Colombia) (individual) [SDNT].

5. EXCIPIENTES FARMACEUTICOS EXCIPHARMA S.A. (a.k.a. EXCIPHARMA S.A.), Calle 22D No. 34-55, Bogota, Colombia; NIT # 830107839-4 (Colombia) [SDNT].

6. GOMEZ BELTRAN, Jorge, c/o LABORATORIOS GENERICOS VETERINARIOS, Bogota, Colombia; DOB 5 Jan 1950; Cedula No. 19091811 (Colombia) (individual) [SDNT].

7. GUTIERRES CERDAS, Alvaro (a.k.a. GUTIERREZ CERDAS, Alvaro), c/o DISTRIBUIDORA DE DROGAS CONDOR LTDA., Bogota, Colombia; DOB 9 May 1942; alt. DOB 24 Jun 1950; Cedula No. 14966562 (Colombia) (individual) [SDNT].

8. GUTIERREZ BURAGLIA, German, c/o PENTACOOP LTDA., Bogota, Colombia; DOB 3 Sept 1960; Cedula No. 19439177 (Colombia) (individual) [SDNT].

9. GUTIERREZ LOZANO, Ana Maria, c/o LABORATORIOS GENERICOS VETERINARIOS DE COLOMBIA S.A., Bogota, Colombia; c/o LABORATORIOS KRESSFOR DE COLOMBIA S.A., Bogota, Colombia; c/o SERVICIOS SOCIALES LTDA., Barranquilla, Colombia; c/o BLANCO PHARMA S.A., Bogota, Colombia; c/o INVERSIONES GEELE LTDA., Bogota, Colombia; c/o INVERSIONES KANTON LTDA., Cucuta, Norte de Santander, Colombia; DOB 22 Apr 1970; Cedula No. 39783954 (Colombia); Passport 39783954 (Colombia) (individual) [SDNT].

10. GUTIERREZ MANCIPE, Hernando, c/o CODISA, Bogota, Colombia; c/o COMERCIALIZADORA DE PRODUCTOS FARMACEUTICOS LTDA., Ibague, Colombia; c/o MACROFARMA S.A., Pereira, Colombia; c/o MATERIAS PRIMAS Y SUMINISTROS S.A., Bogota, Colombia; c/o TECNOVET LTDA., Bogota, Colombia; Cedula No. 2898335 (Colombia); Passport 2898335 (Colombia) (individual) [SDNT].

11. GUTIERREZ PADILLA, Clara Ines, c/o ADMACOOP, Bogota, Colombia;c/o DECAFARMA S.A., Bogota, Colombia;c/o FARMACOOP, Bogota, Colombia;c/o CREDISOL, Bogota, Colombia; c/o INVERSIONES DOBLE CERO E.U., Bogota, Colombia; c/o INVERSIONES NUEVO DIA E.U., Bogota, Colombia; c/o INVERSIONES SAMPLA E.U., Bogota, Colombia; DOB 16 Feb 1961; Cedula No. 51583831 (Colombia); Passport 51583831 (Colombia) (individual) [SDNT].

12. GUTIERREZ PARDO, Elvira Patricia, c/o ADMACOOP, Bogota, Colombia; c/o BONOMERCAD S.A., Bogota, Colombia; c/o PATENTES MARCAS Y REGISTROS S.A., Bogota, Colombia; c/o COMEDICAMENTOS S.A., Bogota, Colombia; Cedula No. 39612308 (Colombia) (individual) [SDNT].

13. GUTIERREZ PEREZ, Eliana Patricia, c/o ADMACOOP, Bogota, Colombia; c/o CODISA, Bogota, Colombia; DOB 12 Jan 1954; Cedula No. 41631893 (Colombia); Passport 41631893 (Colombia) (individual) [SDNT].

14. INVERSIONESASE LTDA., Calle 22D No. 34-55, Bogota, Colombia; NIT # 800245987-8 (Colombia) [SDNT].

15. LOZANO CANCINO DE GUTIERREZ, Maria Gladys (a.k.a. LOZANO DE GUTIERREZ, Gladys), c/o SERVICIOS SOCIALES LTDA., Bogota, Colombia; c/o LABORATORIOS GENERICOS VETERINARIOS DE COLOMBIA S.A., Bogota, Colombia; c/o PENTA PHARMA DE COLOMBIA S.A., Bogota, Colombia; c/o LABORATORIOS KRESSFOR DE COLOMBIA S.A., Bogota, Colombia; c/o INVERSIONES GEELE LTDA., Bogota, Colombia; DOB 19 Oct 48; Cedula No. 41444092 (Colombia); Passport AF673253 (Colombia) (individual) [SDNT].

16. LOZANO DE GOMEZ, Zilia Helena, c/o LABORATORIOS KRESSFOR DE COLOMBIA S.A., Bogota, Colombia; c/o BLANCO PHARMA S.A., Bogota, Colombia; c/o LABORATORIOS GENERICOS VETERINARIOS DE COLOMBIA S.A., Bogota, Colombia; DOB 18 Oct 1951; Cedula No. 41577886 (Colombia) (individual) [SDNT].

17. OROZCO NINO, Adriana, c/o COLIMEX LTDA., Cali, Colombia; c/o PROSALUD Y BIENESTAR S.A., Cali, Colombia; c/o ALERO S.A., Cali, Colombia; DOB 1 Nov 1966; Cedula No. 31972596 (Colombia); N.I.E. X2302530-T (Spain); Passport 31972596 (Colombia) (individual) [SDNT].

18. RAMIREZ LIBREROS, Gladys Miriam (a.k.a. RAMIREZ LIBREROS, Gladys Myriam), c/o LABORATORIOS BLAIMAR DE COLOMBIA S.A., Bogota, Colombia; c/o DISTRIBUIDORA DE DROGAS LA REBAJA S.A., Bogota, Colombia; c/o INVERSIONES MOMPAX LTDA., Cali, Colombia; c/o SERVICIOS MYRAL E.U., Cali, Colombia; DOB 20 Nov 45; Cedula No. 38974109 (Colombia); Passport 38974109 (Colombia) (individual) [SDNT].

19. RODRIGUEZ MORENO, Juan Pablo, c/o INVERSIONES RODRIGUEZ MORENO, Cali, Colombia; Carrera 65 647, Cali, Colombia; DOB 30 Jul 1980 (individual) [SDNT].

20. RODRIGUEZ MORENO, Miguel Andres, Carrera 66 No. 6-47, Cali, Colombia; Carrera 65 No. 6-47, Cali, Colombia; c/o INVERSIONES RODRIGUEZ MORENO, Cali, Colombia; c/o ASISTENCIA PROFESIONAL ESPECIALIZADA EN COLOMBIA LIMITADA, Cali, Colombia; DOB 14 Jul 1977; Cedula No. 94328841 (Colombia); Passport AD253939 (Colombia) (individual) [SDNT].

21. SUAREZ GARCIA, Dora Angela, c/o G M C GRUPO MAQUILACION COLOMBIANO, Bogota, Colombia; c/o LABORATORIOS PROFARMA LTDA., Bogota, Colombia; Cedula No. 41322501 (Colombia); Passport 41322501 (Colombia) (individual) [SDNT].

Dated: August 28, 2008.
Adam J. Szubin,
Director, Office of Foreign Assets Control.

[FR Doc. E8-20557 Filed 9-4-08; 8:45 am]

BILLING CODE 4811-45-P